DEPARTMENT OF COMMERCE

National Oceanic and Atmospheric Administration

[I.D. 090806B]

Marine Mammals; File No. 763-1845

AGENCY: National Marine Fisheries Service (NMFS), National Oceanic and Atmospheric Administration (NOAA), Commerce.

ACTION: Notice; issuance of permit.

SUMMARY: Notice is hereby given that the Smithsonian National Zoological Park (SNZP), 3001 Connecticut Avenue NW, Washington, DC 20008 (John Berry, Responsible Party) has been issued a permit to conduct research on Weddell seals (Leptonychotes weddelliis) and import marine mammal specimens for scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: On May 3, 2006, notice was published in the Federal Register (71 FR 26073) that a request for a scientific research permit to take the species identified above had been submitted by the above-named organization. The requested permit has been issued under the authority of the Marine Mammal Protection Act of 1972, as amended (16 U.S.C. 1361 et seq.), and the regulations governing the taking and importing of marine mammals (50 CFR part 216).

The SNZP has been issued a permit to study maternal investment, maternal and pup diving behavior, and the onset of feeding by mother and pup Weddell seals in Antarctica. Over a 2-year period, researchers will capture mother-pup pairs and weaned pups for weighing, administering isotopes, collecting blood and milk samples, and attachment/removal of time-depth recorders and radio transmitters. Samples from Weddell seals and from non-endangered marine mammals may be imported into the U.S. and re-exported for scientific analysis over a 5-year period.

In compliance with the National Environmental Policy Act of 1969 (42 U.S.C. 4321 et seq.), a final determination has been made that the activity proposed is categorically excluded from the requirement to prepare an environmental assessment or environmental impact statement.

Dated: September 8, 2001.
P. Michael Payne,
Chief, Permits, Conservation and Education Division, Office of Protected Resources, National Marine Fisheries Service.

[FR Doc. E6-15261 Filed 9-13-06; 8:45 am]

BILLING CODE 3510-22-S